DEPARTMENT OF THE INTERIOR

Bureau of Land Management

[CO-134-1610-DQ-006C]

Notice of Availability of a Proposed Resource Management Plan and Final Environmental Impact Statement (PRMP/FEIS) for the Colorado Canyons National Conservation Area (CCNCA)

AGENCY: Bureau of Land Management, Interior.

ACTION: Notice of availability.

SUMMARY: The Proposed Colorado Canyons Resource Management Plan and Final Environmental Impact Statement (RMP/FEIS) is available to the public for a 30-day protest period. The Proposed Plan and associated FEIS were developed in accordance with the National Environmental Policy Act (NEPA) of 1969, and the Federal Land Policy and Management Act (FLPMA) of 1976.

DATES: BLM will accept written protests on the FEIS if postmarked within 30 calendar days from the date that a Notice of Availability is published in the Federal Register by the Environmental Protection Agency. Instructions for filing a protest are described in the Dear Reader letter in the PRMP/FEIS and are also included in the Supplementary Information section of this notice.

ADDRESSES: Written comments should be sent to: Jane Ross, 2815 H Road, Grand Junction, Colorado 81506. Comments also may be sent by e-mail to Jane_Ross@co.blm.gov. Written comments, including names and addresses of respondents, will be available for public review at the offices of the BLM Grand Junction Field Office, 2815 H Road, Grand Junction, Colorado 81506, during normal working hours (7:30 a.m. to 4:30 p.m., except holidays).

The PRMP/FEIS and other associated documents or background information may be viewed and downloaded in PDF format at the project Web site at http://www.co.blm.gov/cocanplan/. Copies of the DRMP/EIS are available at the BLM Grand Junction Office at the address above; at the BLM Moab (UT) Field Office, 82 E. Dogwood, Moab, UT 84532. Copies are also available at the following Mesa County Public Library District locations during regular business hours:

Central Library, 530 Grand Avenue, Grand Junction, CO 81501;

Fruita Branch, 325 East Aspen Avenue, Fruita, CO 81521;

Palisade Branch, 711 Iowa Street, Palisade, CO 81526;

Clifton Branch, Peachtree Shopping Center, 3225 I-70 Business Loop A-1, Clifton, CO 81520;

Orchard Mesa Branch, 2736 Unaweep Avenue, Grand Junction, CO 81503.

The planning documents and direct supporting record for the analysis for the DRMP/EIS will be available for inspection at the BLM Grand Junction Field Office during normal working hours, 7:30 a.m.-4:30 p.m.

FOR FURTHER INFORMATION CONTACT: For further information or to have your name added to our mailing list, contact Jane Ross (970) 244-3027, Planning and Environmental Coordinator (jane_ross@co.blm.gov), or Raul Morales at (970) 244-3066 (raul_morales@co.blm.gov), acting Colorado Canyons NCA Manager, Bureau of Land Management, Grand Junction Field Office, 2815 H Road, Grand Junction, CO 81506.

SUPPLEMENTARY INFORMATION: The CCNCA was officially designated on October 24, 2000, when the Colorado Canyons National Conservation Area and Black Ridge Canyons Wilderness Act of 2000 was signed into public law by the President. The purpose of the Act is to conserve, protect, and enhance, for the benefit and enjoyment of both present and future generations, the nationally important values of the public lands making up the CCNCA, including the Black Ridge Canyons, Ruby Canyon, and Rabbit Valley. The CCNCA, located west of Grand Junction, includes 122,300 rugged acres of sandstone canyons, natural arches, spires, and alcoves carved into the Colorado Plateau along a 24-mile stretch of the Colorado River. Included in the CCNCA are 75,550 acres of wilderness designated as the Black Ridge Canyons Wilderness. At the western boundary of the CCNCA, 5,200 acres stretch into eastern Utah.

The Environmental Protection Agency published the Notice of Availability of the Colorado canyons National Conservation Area Resource Management Plan and Draft EIS in the Federal Register on October 17, 2003. The public comment period on the DEIS ended January 30, 2004. The agency preferred alternative, Alternative 3, is the selected alternative for the Proposed Plan and FEIS. The agency preferred alternative is the Adaptive Management Alternative that emphasizes maintaining the current level of enjoyment of the area's recreational opportunities and unique characteristics while recognizing that increased future use will trigger the need for increased levels of management. Monitoring for land health and visitors' beneficial experience will determine when increased levels of management are required. Objectives for this alternative include preserving the character of the area; preserving and enhancing traditional recreation activities—hiking, camping, mountain biking, OHV use, horseback riding, hunting, and boating; and maintaining land health and improving priority areas of concern. The document contains a summary of the decisions and resulting impacts, an overview of the planning process and planning issues, the Proposed Plan, comment letters and responses received during public review of the Draft Plan, and responses to the substantive issues raised during the review.

The resource management planning process includes an opportunity for public, administrative review of proposed land use plan decisions during a 30-day protest period of the PRMP/FEIS. Any person who participated in the planning process for the PRMP/FEIS, and who has an interest which is or may be adversely affected, may protest approval of this PRMP/FEIS and the land use plan decisions contained within it (see 43 CFR 1610.5-2) during this 30-day period. Only those persons or organizations who participated in the planning process leading to this PRMP/FEIS may protest. A protest may raise only those issues submitted for the record during the planning process leading up to the publication of this PRMP/FEIS. These issues may have been raised by the protesting party or others. New issues may not be brought into the record at the protest stage. The 30-day period for filing a plan protest begins when the Environmental Protection Agency publishes in the Federal Register its Notice of Availability of the Final environmental impact statement containing the PRMP/FEIS. There is no provision for any extension of time. To be considered “timely,” your protest, along with all attachments, must be postmarked no later than the last day of the protest period. A letter of protest must be filed in accordance with the planning regulations, 43 CFR 1610.5-2(a)(1). Protests must be in writing. E-mail and faxed protests will not be accepted as valid protests unless the protesting party also provides the original letter by either regular or overnight mail postmarked by the close of the protest period. Under these conditions, BLM will consider the e-mail or faxed protest as an advance copy and it will receive full consideration. If you wish to provide BLM with such advance notification, please direct faxed protests to the attention of the BLM protest coordinator at 202-452-5112, and emails to Brenda_Hudgens-Williams@blm.gov. If sent by regular mail, send to: Director (210), Attention: Brenda Williams, P.O. Box 66538, Washington DC 20035. For overnight (i.e., Federal Express) mailing, send protests to: Director (210), Attention: Brenda Williams, 1620 L Street, NW., Suite 1075, Washington, DC 20036. In order to be considered complete, your protest must contain, at a minimum, the following information:

1. The name, mailing address, telephone number, and interest of the person filing the protest.

2. A statement of the issue or issues being protested.

3. A statement of the part or parts of the PRMP/FEIS being protested. To the extent possible, this should be done by reference to specific pages, paragraphs, sections, tables, maps, etc., included in the document.

4. A copy of all documents addressing the issue or issues that you submitted during the planning process or a reference to the date the issue or issues were discussed by you for the record.

5. A concise statement explaining why the Colorado BLM State Director's proposed decision is believed to be incorrect. This is a critical part of your protest. Take care to document all relevant facts.

As much as possible, reference or cite the planning documents, environmental analysis documents, or available planning records (i.e., meeting minutes or summaries, correspondence, etc.). A protest that merely expresses disagreement with the Colorado BLM State Director's proposed decision, without any data, will not provide us with the benefit of your information and insight. In this case, the Director's review will be based on the existing analysis and supporting data. Upon resolution of any protests, an Approved Plan and Record of Decision will be issued. The approved Plan/Record of Decision will be mailed to all individuals who participated in this planning process and all other interested public upon their request.

Dated: April 6, 2004.
Raul Morales,
Manager, Colorado Canyons National Conservation Area.

[FR Doc. 04-17254 Filed 7-29-04; 8:45 am]

BILLING CODE 4310-AG-P